NATIONAL AERONAUTICS AND SPACE ADMINISTRATION

[NOTICE: (07-097)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, National Aeronautics and Space Administration, Washington, DC 20546-0001.

FOR FURTHER INFORMATION CONTACT: Requests for additional information or copies of the information collection instrument(s) and instructions should be directed to Mr. Walter Kit, NASA PRA Officer, NASA Headquarters, 300 E Street SW., JE0000, Washington, DC 20546, (202) 358-1350, Walter.Kit-1@nasa.gov.

SUPPLEMENTARY INFORMATION:

I. Abstract

This information collection is an application form to be considered for an undergraduate or graduate scholarship. Students are required to submit an application package consisting of an application form, academic background, proposed area of study, curriculum vitae or personal statement, three letters of reference, and an essay or research proposal.

II. Method of Collection

NASA will utilize a Web-based application form with instructions and other application materials also on-line. All data will be collected via this web-based application (separate under graduate and graduate forms) and unless the user chooses to download the application form and other application materials and mail them in.

III. Data

Title: NASA Aeronautics Scholarship Program.

OMB Number: 2700-XXXX.

Type of review: New Collection.

Affected Public: Individuals.

Estimated Number of Respondents: 250.

Estimated Time Per Response: 1.0 hour.

Estimated Total Annual Burden Hours: 250 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Executive Officer.

[FR Doc. E7-24774 Filed 12-20-07; 8:45 am]

BILLING CODE 7510-13-P